DEPARTMENT OF DEFENSE

Department of the Army; Corps of Engineers

Intent To Prepare a Draft Programmatic Environmental Impact Statement for the Upper Mississippi River—Illinois Waterway System Navigation Study

AGENCY: Department of the Army, U.S. Army Corps of Engineers, DoD.

ACTION: Notice of intent.

SUMMARY: A Draft Programmatic Environmental Impact Statement (DPEIS) will be prepared to address the restructured Upper Mississippi River—Illinois Waterway System Navigation Study. This is a modification of the notice of intent posted in the Federal Register on November 27, 1995 (60 FR 58339).

FOR FURTHER INFORMATION CONTACT: Questions about the proposed action and Draft Environmental Impact Statement can be answered by Mr. Kenneth Barr by telephone (309) 794-5349, or by mail: Commander, U.S. Army Engineer District, Rock Island (ATTN: CEMVR-PM-A), Clock Tower Building, P.O. Box 2004, Rock Island, IL 61204-2004.

SUPPLEMENTARY INFORMATION: The restructured Upper Mississippi River—Illinois Waterway System Navigation Study (Navigation Study, study) is being conducted under the authority of section 216 of the Flood Control Act of 1970. The 9-Foot Channel Navigation Project, originally authorized in 1930, is being reviewed for changed physical, economic, and environmental conditions that may warrant structural or non-structural modifications to reduce congestion of commercial navigation traffic and to enhance ecosystem restoration.

1. The initial reconnaissance studies concluded that there was sufficient evidence to suggest there was a Federal interest in conducting more detailed investigations relating to the issue of need and benefits of navigation improvements. Specific investigations were recommended to define the base condition, analyze congestion problems, determine system benefits, and examine environmental impacts. The feasibility study was initiated in 1993 and narrowly focused on investigating a long-term solution to meet increased navigation demands and reduction of delays to commercial traffic caused by a congested system and associated environmental impacts. Study documentation for public review, other than supporting technical reports, was never completed.

2. The Chief of Engineers paused the study in 2001 and formed the Federal Principals Task Force to help define a new direction. The study was restarted in August 2001 under restructuring guidance formulated in consideration of comments received from the National Research Council (NRC) and from the Federal Principals Task Force. The pause allowed the Corps of Engineers to revise the project study plan to address the recommendations of the NRC review, as well as establish regional- and Washington-level interagency collaboration forums to help guide the future direction of the study. The restructured study will address the cumulative environmental effects of navigation and the needs for ecosystem restoration, providing a balanced consideration of fish and wildlife resources, along with navigation improvement planning. The feasibility study will ensure the waterway system continues to be a nationally treasured ecological resource as well as an efficient national transportation system by seeking ways to:

• Provide an efficient National Navigation System;

• Achieve an environmentally and economically sustainable system;

• Address ecosystem and floodplain management needs related to navigation;

• Operate and maintain the system to ensure economic, environmental, and social sustainability.

3. The feasibility study is evaluating both large- and small-scale measures that could be implemented to reduce commercial traffic delays and restore, protect, or preserve essential structures and functions of the natural ecosystem. Navigation improvement measures being evaluated include both structural and non-structural measures. Structural measures include extending the length of existing locks, constructing new locks and moorings (tie-off facilities that allow a waiting tow to wait closer to the lock chamber). Non-structural measures include scheduling and congestion fee systems for traffic management and switchboats (hired vessels permanently stationed on both upstream and downstream sides of the lock to assist and speed up the lock process). The study is also evaluating ecosystem restoration measures that include island building, fish passage structures at locks and dams, floodplain restoration, water-level management, backwater restoration, side channel restoration, wing dam/dike alteration, island protection, shoreline protection, and increased topographic diversity of the floodplain. An adaptive management framework for integrated system management is also being evaluated. Combinations of these measures, along with the ‘no action' alternative, are being evaluated to form an array of alternatives that would eventually result in a recommended dual-purpose plan.

An interim study report, whose contents include the restructuring philosophy of sustainability, brief problem assessments, preliminary scenario evaluation, descriptions of potential measures, and a discussion of implementation issues, was completed in July 2002 and provided a ‘blueprint' for moving forward. Further economic and environmental data collection and evaluations have been completed since then.

4. Stakeholders voiced many issues and concerns during the scoping for the original study, conducted formally in 1994. The NRC and Federal Principles Task Force echoed many of the concerns in their reviews and statements. The emphasis in the restructured study on collaboration and a more comprehensive, holistic consideration of the multiple uses of the Upper Mississippi River system aims to address these issues and concerns. Existing coordination bodies, such as the environmental, economic, engineering, and “Governor's Liaison” committees have been influential throughout the study. Public involvement has included newsletter distribution to a mailing list of approximately 9,300 persons, a toll-free information phone line, and a Web site http://www2.mvr.usace.army.mil/umr-iwwsns/. Since the restructuring of the study, public meetings were held in March 2002 and October 2003.

5. A final study report and DPEIS are anticipated to be completed in April 2004.

Dated: February 2, 2004.
Duane P. Gapinski,
Colonel, EN, Commanding.

[FR Doc. 04-3826 Filed 2-20-04; 8:45 am]

BILLING CODE 3710-HV-M